FEDERAL COMMUNICATIONS COMMISSION

Notice of Public Information Collection(s) Being Submitted for Review to the Office of Management and Budget

October 13, 2006.

SUMMARY: The Federal Communications Commission, as required by the Paperwork Reduction Act (PRA) of 1995, Public Law 104-13, and as part of its continuing effort to reduce paperwork burden, invites the general public and other Federal agencies to take this opportunity to comment on the following information collection(s). An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 20, 2006. If you anticipate that you will be submitting PRA comments, but find it difficult to do so within the period of time allowed by this notice, you should advise the contact listed below as soon as possible.

ADDRESSES: Direct all Paperwork Reduction Act (PRA) comments to Leslie F. Smith, Federal Communications Commission, Room 1-C216, 445 12th Street, SW., Washington, DC 20554 or via the Internet to Leslie.Smith@fcc.gov or Allison E. Zaleski, Office of Management and Budget (OMB), Room 10236 NEOB, Washington, DC 20503, (202) 395-6466 or via the Internet at Allison_E._Zaleski@omb.eop.gov.

If you would like to obtain or view a copy of this revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-0809.

Title: Communications Assistance for Law Enforcement Act (CALEA) and Broadband Access and Services, FCC Form 445.

Form Number: FCC 445.

Type of Review: Revision of a currently approved collection.

Respondents: Business or other for profit entities.

Number of Respondents: 5,920.

Estimated Time per Response: 1-80 hours.

Frequency of Response: Recordkeeping; On occasion reporting requirements; and Third party disclosure.

Total Annual Burden: 75,835 hours.

Total Annual Costs: N/A.

Privacy Impact Assessment: No impact(s).

Needs and Uses: The Communications Assistance for Law Enforcement Act (CALEA) requires the Commission to create rules that regulate the conduct and recordkeeping of lawful electronic surveillance. CALEA was enacted in October 1994 to respond to rapid advances in telecommunications technology and eliminates obstacles faced by law enforcement personnel in conducting electronic surveillance. Section 105 of CALEA requires telecommunications carriers to protect against the unlawful interception of communications passing through their systems. Law enforcement officials use the information maintained by telecommunications carriers to determine the accountability and accuracy of telecommunications carriers' compliance with lawful electronic surveillance orders.

On May 12, 2006, the Commission released a Second Report and Order and Memorandum Opinion and Order in ET Docket No. 04-295, FCC 06-56, which became effective August 4, 2006, except for §§ 1.20004 and 1.2005 of the Commission's rules, which require OMB approval. The Second Report and Order established new guidelines for filing section 107(c) petitions, section 109(b) petitions, and monitoring reports (FCC Form 445). CALEA section 107(c)(1) permits a petitioner to apply for an extension of time, up to two years from the date that the petition is filed, and to come into compliance with a particular CALEA section 103 capability requirement. CALEA section 109(b) permits a telecommunication carrier covered by CALEA to file a petition with the FCC and an application with the Department of Justice (DOJ) to request that DOJ pay the costs of the carrier's CALEA compliance (cost-shifting relief) with respect to any equipment, facility or service installed or deployed after January 1, 1995. The Second Report and Order required several different collections of information:

(a) Within 90 days of the effective date of the Second Report and Order, facilities based broadband Internet access and interconnected Voice over Interconnected Protocol (VOIP) providers newly identified in the First Report and Order in this proceeding will be required to file system security statements under the Commission's rules. (Security systems are currently approved under the existing OMB 3060-0809 information collection).

(b) Petitions filed under Section 107(c), request for additional time to comply with CALEA; these provisions apply to all carriers subject to CALEA and are voluntary filings.

(c) Section 109(b), request for reimbursement of CALEA, would be modified; these provisions apply to all carriers subject to CALEA and are voluntary filings.

(d) The revised collection requires each carrier that has a CALEA section 107(c) extension petition currently on file to submit to the Commission a letter documenting that the carrier's equipment, facility or service qualifies for section 107(c) relief under the October 25, 1998, cutoff for such relief.

(e) The revised collection also requires all carriers providing facilities based broadband Internet access or interconnected VOIP services to file monitoring reports on FCC Form 445, “CALEA Monitoring Report for Broadband and VOIP Service,” with the Commission to ensure timely CALEA compliance.

Federal Communications Commission.
Marlene H. Dortch,
Secretary.

[FR Doc. E6-17509 Filed 10-18-06; 8:45 am]

BILLING CODE 6712-01-P